FEDERAL MARITIME COMMISSION

Notice of Agreements Filed

The Commission hereby gives notice of the filing of the following agreements under the Shipping Act of 1984. Interested parties may obtain copies of agreements by contacting the Commission's Office of Agreements at 202-523-5793 or via e-mail at tradeanalysis@fmc.gov. Interested parties may submit comments on an agreement to the Secretary, Federal Maritime Commission, Washington, DC 20573, within 10 days of the date this notice appears in the Federal Register.

Agreement No.: 011426-034.

Title: West Coast of South America Discussion Agreement.

Parties: A.P. Moller-Maersk A/S; Compania Chilena de Navigacion Interoceanica, S.A.; Compania Süd Americana de Vapores, S.A.; Hamburg-Suüd KG; APL Co. Pte Ltd.; Seaboard Marine Ltd.; Trinity Shipping Line; Mediterranean Shipping Company, S.A.; P&O Nedlloyd B.V.; South Pacific Shipping Company, Ltd. (d/b/a Ecuadorian Line); CMA CGM, S.A.; Lykes Lines Limited, LLC; Frontier Liner Services, Inc.; and King Ocean Services Limited, Inc.

Filing Party: Wayne R. Rohde, Esq.; Sher & Blackwell LLP; 1850 M Street, NW., Suite 900; Washington, DC 20036.

Synopsis: The amendment expands the scope of the agreement to include the Caribbean Coast of Columbia (Colombian section); makes technical changes to accommodate the expanded scope; and adds Lykes, Frontier, and King Ocean as parties to the Colombian section of the agreement.

Agreement No.: 011722-001.

Title: New World Alliance/Maersk Sealand Slot Exchange Agreement.

Parties: A.P. Moller Maersk A/S; American President Lines, Ltd.; APL Co. PTE Ltd.; Mitsui O.S.K. Lines, Ltd., and Hyundai Merchant Marine Co., Ltd.

Filing Party: Wayne R. Rohde, Esquire; Sher & Blackwell LLP; 1850 M Street, NW., Suite 900; Washington, DC 20036.

Synopsis: The amendment updates Maersk's corporate name.

Agreement No.: 011911.

Title: Sinolines/WHL Slot Exchange and Sailing Agreement.

Parties: Sinotrans Contrainer Lines Co., Ltd. and Wan Hai Lines, Ltd.

Filing Party: Robert B. Yoshitomi, Esq.; Nixon Peabody LLP; 2040 Main Street, Suite 850; Irvine, CA 92614.

Synopsis: The agreement authorizes Sinotrans Container Lines Co., Ltd. and Wan Hai Lines, Ltd. to exchange and sell slots in the trade between ports in Asia and the United States West Coast ports.

Agreement No.: 011912.

Title: Dole/Hamburg-Sud Space Charter and Sailing Agreement.

Parties: Dole Ocean Cargo Express, Inc. and Hamburg-Sud.

Filing Party: Michael G. Roberts, Esquire; Venable LLP; 575 7th Street, NW.; Washington, DC 20004-1601.

Synopsis: The agreement would authorize the parties to share vessel space in the trades between U.S. Atlantic and Gulf ports, and ports in Central America as well as from ports in Puerto Rico to ports in North Europe.

The parties request expedited review.

By Order of the Federal Maritime Commission.
Bryant L. VanBrakle,
Secretary.

[FR Doc. 05-7428 Filed 4-12-05; 8:45 am]

BILLING CODE 6730-01-P